NUCLEAR REGULATORY COMMISSION

Sunshine Act Meeting

AGENCY HOLDING THE MEETING: Nuclear Regulatory Commission.

DATE: Weeks of May 22, 29, June 5, 12, 19, and 26, 2000.

PLACE: Commissioners' Conference Room, 11555 Rockville Pike, Rockville, Maryland.

STATUS: Public and Closed.

MATTERS TO BE CONSIDERED:

Week of May 22

Thursday, May 25

8:30 a.m. Briefing on Operating Reactors and Fuel Facilities (Public Meeting) (Contact: Joe Shea, 301-415-1727)

10:15 a.m. Briefing on Status of Regional Programs, Performance and Plans (Public Meeting) (Contact: Joe Shea, 301-415-1727)

1:25 a.m. Affirmation Session (Public Meeting)

a: Hydro Resources, Inc., Docket No. 40-8968-ML, Memorandum and Order (Financial Assurance for Decommissioning Issues), LBP-99-13, 49 NRC 233 (March 9, 1999); and Memorandum and Order (Motion to Hold in Abeyance), LBP-99-40 (October 19, 1999); and,

b: Final Rule: “Elimination of the Requirement for Noncombustible Fire Barrier Penetration Seal Materials and Other Minor Changes” (10 CFR Part 50) (WITS 199800128) (Contact: Ken Hart, 301-415-1659)

1:30 p.m. Briefing on Improvements to 2.206 Process (Public Meeting) (Contact: Andrew Kugler, 301-415-2828)

Week of May 29—Tentative

Tuesday, May 30

9:25 a.m. Affirmation Session (Public Meeting) (If needed)

Week of June 5

There are no meetings scheduled for the Week of June 5.

Week of June 12—Tentative

Tuesday, June 13

9:25 a.m. Affirmation Session (Public Meeting) (If needed)

9:30 a.m. Meeting with Organization of Agreement States (OAS) and Conference of Radiation Control Program Directors (CRCPD) (Public Meeting) (Contact: Paul Lohaus, 301-415-3340)

1:00 p.m. Meeting with Korean Peninsula Energy Development Organization (KEDO) and State Department (Public Meeting) (Contact: Donna Chaney, 301-415-2644)

Week of June 19—Tentative

Tuesday, June 20, 2000

9:25 a.m. Affirmation Session (Public Meeting) (If needed)

9:30 a.m. Briefing on Final Rule—Part 70—Regulating Fuel Cycle Facilities (Public Meeting)

1:30 p.m. Briefing on Risk-Informed Part 50, Option 3 (Public Meeting)

Week of June 26—Tentative

There are no meetings scheduled for the Week of June 26.

*THE SCHEDULE FOR COMMISSION MEETINGS IS SUBJECT TO CHANGE ON SHORT NOTICE. TO VERIFY THE STATUS OF MEETINGS CALL (RECORDING)—(301) 415-1292. CONTACT PERSON FOR MORE INFORMATION: Bill Hill (301) 415-1661.

The NRC Commission Meeting Schedule can be found on the Internet at: http://www.nrc.gov/SECY/smj/schedule.htm

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc. gov.

Dated: May 19, 2000.
William M. Hill, Jr.,
Secy Tracking Officer, Office of the Secretary.

[FR Doc. 00-13151 Filed 5-22-00; 1:16 pm]

BILLING CODE 7590-01-M